DEPARTMENT OF THE INTERIOR

National Park Service

AGENCY: National Park Service, Interior.

ACTION: Public notice.

SUMMARY: Pursuant to the terms of existing concession contracts, public notice is hereby given that the National Park Service intends to request a continuation of visitor services for a period not-to-exceed one year from the date of contract expiration.

SUPPLEMENTARY INFORMATION: The contracts listed below have been extended to the maximum allowable under 36 CFR 51.23. Under the provisions of current concession contracts and pending the development and public solicitation of a prospectus for a new concession contract, the National Park Service authorizes continuation of visitor services for a period not-to-exceed one year under the terms and conditions of current contracts as amended. The continuation of operations does not affect any rights with respect to selection for award of a new concession contract.

Concessioner ID No. | Concessioner name | Park
CP-BISC002-87 | Biscayne National Underwater Park, Inc | Biscayne National Park.
CP-BISC006-89 | Florida National Parks & Monuments Assoc | Biscayne National Park.
CP-EVER006-89 | Florida National Parks & Monuments Assoc | Big Cypress National Preserve.
TCC-BISO002-99 | Bobby Gene and Gretta York | Big South Fork NRRA NRRA.
CP-BISO002-89 | Eastern National | Big South Fork NRRA NRRA.
CP-BISO001-98 | LeConte Lodge Limited Partnership | Big South Fork NRRA.
CP-BISO006-96 | The View, Bear Creek Horse Camp | Big South Fork NRRA.
CP-BISO005-95 | The View, Station Camp | Big South Fork NRRA.
CP-BLRI009-87 | Parkway Inn | Blue Ridge Parkway.
CP-BLRI002-83 | Northwest Trading Post | Blue Ridge Parkway.
CP-BLRI001-93 | Southern Highland Handcraft Guild | Blue Ridge Parkway.
CP-BUIS001-98 | Southern Seas, Inc | Buck Island Reef NM.
CP-BUIS006-98 | Teroro, Inc | Buck Island Reef NM.
CP-BUIS008-98 | Llewellyn Westerman | Buck Island Reef NM.
CP-BUIS014-98 | Francis J. Waters | Buck Island Reef NM.
CP-BUIS015-98 | Milemark, Inc | Buck Island Reef NM.
CP-BUIS019-98 | Carl Punzenberger | Buck Island Reef NM.
CC-CAHA001-98 | Avon-Thornton Limited Partnership | Cape Hatteras National Seashore.
CC-CAHA002-98 | Cape Hatteras Fishing Pier, Inc | Cape Hatteras National Seashore.
CC-CAHA003-84 | Hatteras Island Motel Limited Partnership | Cape Hatteras National Seashore.
CC-CALO004-98 | Oregon Inlet Fishing Center, Inc | Cape Hatteras National Seashore.
CC-CALO003-98 | Morris Marina, Kabin Kamps and Ferry Service, Inc | Cape Lookout NS.
CC-CALO005-98 | Alger G. Willis Fishing Camp, Inc | Cape Lookout NS.
CC-CUIS001-88 | Lang Seafood, Inc | Cumberland Island NS.
CP-EVER006-89 | Florida National Parks & Monuments Assoc | Everglades National Park.
CC-EVER001-80 | Xanterra Parks and Resorts | Everglades National Park.
CI-FOFR001-98 | Fort Frederica Association | Fort Frederica National Monument.
CP-GRSM004-98 | Cades Cove Riding Stables, Inc | Great Smoky Mountains.
CP-GRSM005-98 | Cherokee Boys Club | Great Smoky Mountains.
CP-GRSM010-98 | Great Smokey Mountains NHA | Great Smoky Mountains.
CP-GRSM002-83 | Leconte Lodge Limited | Great Smoky Mountains.
CP-GRSM003-98 | Tammy Shular | Great Smoky Mountains.
CP-GRSM007-94 | Smokemont Riding Stables of North Carolina, Inc | Great Smoky Mountains.
CC-GUIS001-98 | Dudley Food and Beverage, Inc | Gulf Island National Seashore.
CC-GUIS003-89 | Pan Isles, Inc | Gulf Island National Seashore.
CP-NATR004-98 | Craftmen's Guild of Mississippi, Inc | Natchez Trace Parkway.
CP-SERO001-92 | Eastern National | South East Region.
CC-VIIS001-71 | Caneel Bay, Inc | Virgin Islands NP.
CP-VIIS008-96 | Caneel Bay, Inc | Virgin Islands NP.
CO-VIIS007-98 | Maho, Inc | Virgin Islands NP.
CP-WRBR001-98 | Kitty Hawk Aero Tours, Inc | Wright Brothers National Monument.

EFFECTIVE DATE: January 2, 2003.

FOR FURTHER INFORMATION CONTACT: Cynthia Orlando, Concession Program Manager, National Park Service, Washington, DC, 20240, Telephone 202/513-7156.

Dated: December 13, 2002.
Richard G. Ring,
Associate Director, Administration, Business Practices and Workforce Development.

[FR Doc. 03-2324 Filed 1-30-03; 8:45 am]

BILLING CODE 4310-70-M